DEPARTMENT OF JUSTICE

[OMB Number 1125-0002]

Agency Information Collection Activities; Proposed Collection eComments Requested; Revision and Extension of a Previously Approved Collection; Notice of Appeal From a Decision of an Immigration Judge (Form EOIR-26)

AGENCY: Executive Office for Immigration Review, Department of Justice.

ACTION: 60-Day notice.

SUMMARY: The Executive Office for Immigration Review (EOIR) at the Department of Justice (DOJ) will be submitting the following information collection request to the Office of Management and Budget (OMB) for review and approval in accordance with the Paperwork Reduction Act of 1995.

DATES: Comments are encouraged and will be accepted for 60 days until September 2, 2025.

FOR FURTHER INFORMATION CONTACT: If you have additional comments especially on the estimated public burden or associated response time, suggestions, or need a copy of the proposed information collection instrument with instructions or additional information, please contact Justine Fuga, Associate General Counsel, Office of the General Counsel, Executive Office for Immigration Review, 5107 Leesburg Pike, Suite 2600, Falls Church, VA 22041, telephone: (703) 305-0265, Justine.Fuga@usdoj.gov, eoir.pra.comments@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: A party (either the U.S. Department of Homeland Security (DHS) Immigration and Customs Enforcement (ICE) or the individual (Respondent/Applicant) who is the subject of the EOIR immigration proceeding) affected by a decision of an Immigration Judge may appeal that decision to the Board of Immigration Appeals (Board or BIA), provided the Board has jurisdiction pursuant to 8 CFR 1003.1. An appeal from an Immigration Judge's decision is taken by completing the Form EOIR-26 and submitting it to the Board. See 8 CFR 1003.3, 1003.38. The form requests information necessary for the Board to process an appeal of an Immigration Judge decision, such as the Respondent's/Applicant's name and alien registration number (A-number), the mailing addresses for parties and the attorney or representative of record, the basis for the appeal, and proof of service of the notice of appeal. EOIR is revising this form to implement several changes. Formatting and textual revisions were made throughout the form and instructions to improve organization, clarity, and readability. EOIR also updated references to online materials. Changes were made to clarify filing instructions for paper and electronic submissions. EOIR removed references and collection of information pertaining to the BIA Pro Bono Project, which currently is not an active agency program. An option was added to the form for an appellant to specify that he or she is filing an interlocutory appeal from an Immigration Judge decision. Finally, EOIR added a field to collect the email address for the appellant's attorney or authorized representative.

Overview of This Information Collection

1. Type of Information Collection: Revision and extension of a previously approved collection.

2. The Title of the Form/Collection: Notice of Appeal from a Decision of an Immigration Judge.

3. The agency form number, if any, and the applicable component of the Department sponsoring the collection: The agency form number is EOIR-26, and the sponsoring component is EOIR.

4. Affected public who will be asked or required to respond, as well as the obligation to respond: The Affected Public are the parties to EOIR immigration proceedings, which includes individuals who are the subject of EOIR immigration proceedings as well as DHS ICE. This information collection is required to obtain/retain the benefit of administratively appealing a decision of an Immigration Judge.

5. An estimate of the total number of respondents and the amount of time estimated for an average respondent to respond: It is estimated that an average of 45,473 respondents will complete the form annually with an average of 30 minutes per response.

6. An estimate of the total annual burden (in hours) associated with the collection: EOIR estimates an average of 22,736 hours total annual burden for form respondents.

Activity | Number of respondents | Frequency (annually) | Total annual responses | Time per response (hours) | Total annual burden (hours)
EOIR-26—individuals | 42,816 | 1 | 42,816 | 0.5 | 21,408
EOIR-26—DHS ICE | 2,657 | 1 | 2,657 | 0.5 | 1,328
Totals | 45,473 | 1 | 45,473 | 0.5 | 22,736

7. An estimate of the total annual cost burden associated with the collection, if applicable: The total estimated annual public cost is $1,516,731. Of the total number of responses received annually, 12,487 responses are submitted by mail or hand delivery from respondents/applicants subject to the $110 filing fee requirement and 647 responses are submitted by mail or hand delivery from DHS ICE representatives exempted from the $110 filing fee requirement.

Cost | Individual | DHS ICE
Printing | $0.80 per response | $0.80 per response.
Postage | $10.10 per response | $10.10 per response.
Filing Fee | $110 per response | $0 per response.
Total per Response | $120.90 | $10.90.
Total for All Paper Responses Filed | $120.90 × 12,487 = $1,509,679 | $10.90 × 647 = $7,052.

If additional information is required contact: Darwin Arceo, Department Clearance Officer, United States Department of Justice, Justice Management Division, Policy and Planning Staff, Two Constitution Square, 145 N Street NE, 4W-218, Washington, DC.

Dated: June 26, 2025.
Darwin Arceo,
Department Clearance Officer for PRA, U.S. Department of Justice.

[FR Doc. 2025-12197 Filed 6-30-25; 8:45 am]

BILLING CODE 4410-30-P